DEPARTMENT OF TRANSPORTATION

Federal Aviation Administration

[Summary Notice No. PE-2005-4]

Petitions for Exemption; Dispositions of Petitions Received

AGENCY: Federal Aviation Administration (FAA), DOT.

ACTION: Notice of dispositions of prior petitions.

SUMMARY: Pursuant to FAA's rulemaking provisions governing the application, processing, and disposition of petitions for exemption, part 11 of Title 14, Code of Federal Regulations (14 CFR), this notice contains the disposition of certain petitions previously received. The purpose of this notice is to improve the public's awareness of, and participation in, this aspect of FAA's regulatory activities. Neither publication of this notice nor the inclusion or omission of information in the summary is intended to affect the legal status of any petition or its final disposition.

FOR FURTHER INFORMATION CONTACT: Tim Adams (202) 267-8033, or Sandy Buchanan-Sumter (202) 267-7271, Office of Rulemaking (ARM-1), Federal Aviation Administration, 800 Independence Avenue, SW., Washington, DC 20591. This notice is published pursuant to 14 CFR 11.85 and 11.91.

Issued in Washington, DC, on January 7, 2005.
Anthony F. Fazio,
Director, Office of Rulemaking.

Dispositions of Petitions

Docket No.: FAA-2004-17186.

Petitioner: Mr. John C. Kline.

Section of 14 CFR Affected: 14 CFR 121.383(c).

Description of Relief Sought/Disposition: To permit Mr. John C. Kline to act as a pilot in operations conducted under part 121 after reaching his 60th birthday. Denial, 12/10/2004, Exemption No. 8458.

Docket No.: FAA-2003-14879.

Petitioner: AFTA, Inc. (formerly Xtrajet, Inc.)

Section of 14 CFR Affected: 14 CFR 135.152(a).

Description of Relief Sought/Disposition: To permit AFTA, Inc. (formerly Xtrajet, Inc.) to operate its Gulfstream G-1159 aircraft without installing the flight data recorder required by the regulation. Denial, 12/14/2004, Exemption No. 8044A

Docket No.: FAA-2000-8436.

Petitioner: William J. Hughes Technical Center.

Section of 14 CFR Affected: 4 CFR 91.117(a), 91.119(c), 91.159(a), and 91.303(e).

Description of Relief Sought/Disposition: To permit the William J. Hughes Technical Center to conduct flight operations in support of its research and development projects without meeting certain Federal Aviation Administration regulations governing aircraft speed, minimum safe altitudes, cruising altitudes for flights conducted under visual flight rules, and aerobatic flight. Grant, 12/10/2004, Exemption No. 6883C.

Docket No.: FAA-2004-19151.

Petitioner: Middle Tennessee State University.

Section of 14 CFR Affected: 14 CFR 61.65(a)(1).

Description of Relief Sought/Disposition: To permit students enrolled in the Middle Tennessee State University FAA-approved pilot school curriculum that utilizes the FAA/Industry Training Standards Private/Instrument Syllabus for Technically Advanced Piston Aircraft-Single Engine Land and who hold only a Student Pilot certificate to take concurrently the private pilot and instrument rating practical tests, subject to certain conditions and limitations. Grant, 12/10/2004, Exemption No. 8456

Docket No.: FAA-2004-19417.

Petitioner: Lufthansa Cargo AG.

Section of 14 CFR Affected: 14 CFR 61.77(a).

Description of Relief Sought/Disposition: To permit pilots employed by Lufthansa Cargo AG to be eligible for the issuance of special purpose pilot authorizations under part 61, subject to certain conditions and limitations. Grant, 12/10/2004, Exemption No. 8437A

Docket No.: FAA-2002-14105.

Petitioner: Mr. Michael S. Friedman.

Section of 14 CFR Affected: 14 CFR 91.109(a).

Description of Relief Sought/Disposition: To permit Mr. Michael S. Friedman to conduct certain flight instruction and simulated instrument flights to meet the recent experience requirements in Beechcraft Bonanza, Baron, and Travel Air airplanes equipped with a functioning throwover control wheel in place of functioning dual controls. Grant, 12/03/2004, Exemption No. 7950A

Docket No.: FAA-2000-8179.

Petitioner: M7 Aerospace LP.

Section of 14 CFR Affected: 14 CFR 91.531(a)(3).

Description of Relief Sought/Disposition: To permit M7 Aerospace LP (M7) to conduct production and experimental test flights in SA227-CC and SA227-DC Metro 23 airplanes without a pilot designated as a second in command (SIC). In addition, it permits all operators of M7 commuter category airplanes (SA227-C, SA227-DC, and other airplanes on the same type certificate) to conduct flight operations without a designated SIC, provided the airplane is type certificated for single-pilot operations and is carrying nine or fewer passengers. Grant, 12/03/2004, Exemption No. 5367H

Docket No.: FAA-2004-19517.

Petitioner: Island Helicopter.

Section of 14 CFR Affected: 14 CFR 135.143(c)(2).

Description of Relief Sought/Disposition: To permit Island Helicopter to operate its Robinson R-22 helicopter under part 135 without a TSO-C112 (Mode S) transponder installed on those aircraft. Grant, 12/06/2004, Exemption No. 8454

Docket No.: FAA-2002-13966.

Petitioner: St. Charles Flying Service, Inc.

Section of 14 CFR Affected: 14 CFR 135.143(c)(2).

Description of Relief Sought/Disposition: To permit Island Helicopter to operate its Robinson R-22 helicopter under part 135 without a TSO-C112 (Mode S) transponder installed on those aircraft. Grant, 12/06/2004, Exemption No. 8454.

Docket No.: FAA-2002-13966.

Petitioner: St. Charles Flying Service, Inc.

Section of 14 CFR Affected: 14 CFR 135.143(c)(2).

Description of Relief Sought/Disposition: To permit St. Charles Flying Service, Inc., to operate certain aircraft under part 135 without a TSO-C112 (Mode S) installed on those aircraft. Grant, 12/06/2004, Exemption No. 7929A.

Docket No.: FAA-2004-19759.

Petitioner: Dassault Aviation.

Section of 14 CFR Affected: 14 CFR 121.344a and 135.152(h).

Description of Relief Sought/Disposition: To permit Dassault Aviations' future operators of the Dassault Falcon 2000EX EASy and Falcon 900EX EASy airplanes the ability to operate newly manufactured airplanes without three of the required flight recorder parameters fully operational. Denial, 12/23/2004, Exemption No. 8459.

Docket No.: FAA-2000-8419.

Petitioner: Department of the United States Air Force.

Section of 14 CFR Affected: 14 CFR 91.209(a)(1) and (b).

Description of Relief Sought/Disposition: To permit the United States Air Force to conduct counternarcotics aircrew flight training operations in support of drug law enforcement and drug traffic interdiction, without lighted aircraft position or anticollision lights. Grant, 12/23/2004, Exemption No. 5305F.

Docket No.: FAA-2001-9618.

Petitioner: Department of the United States Air Force.

Section of 14 CFR Affected: 14 CFR 91.209(a) and (b).

Description of Relief Sought/Disposition: To permit the United States Air Force to conduct helicopter night-vision flight training operations without lighted aircraft position lights at or below 500 feet above ground level. Grant, 12/23/2004, Exemption No. 5891D.

Docket No.: FAA-2004-19718.

Petitioner: Southern Air, Inc.

Section of 14 CFR Affected: 14 CFR 121.434(c)(1)(ii).

Description of Relief Sought/Disposition: To permit Southern Air, Inc., to substitute a qualified and authorized check airman in place of an Federal Aviation Administration inspector to observe a qualifying pilot in command who is completing initial or upgrade training specified in § 121.424 during at least one flight leg that includes a takeoff and a landing. Grant, 12/29/2004, Exemption No. 8464.

Docket No.: FAA-2004-19692.

Petitioner: Mission Mountain Flying Service.

Section of 14 CFR Affected: 14 CFR 135.143(c)(2).

Description of Relief Sought/Disposition: To permit Mission Mountain Flying Service to operate their aircraft, Registration No. N58441, Serial No. U20602604, with any TSO-C74b transponder or TSO-C74c transponder. Grant, 01/04/2005, Exemption No. 8466.

Docket No.: FAA-2004-19926.

Petitioner: Northern Air Cargo, Inc.

Section of 14 CFR Affected: 14 CFR 121.356(a) and (c).

Description of Relief Sought/Disposition: To permit Northern Air Cargo, Inc., to operate one cargo Boeing 727 airplane, Registration No. N992AJ, Serial No. 19428, and one cargo Douglas DC-6 airplane, Registration No. N6174C, Serial No. 44075, from January 1, 2005 until February 1, 2005, that is not equipped with an approved TCAS II traffic alert and collision avoidance system and the appropriate class of Mode S transponder, subject to compliance with certain conditions and limitations. Grant, 12/30/2004, Exemption No. 8462.

Docket No.: FAA-2004-19881.

Petitioner: Mr. Edward J. Tarver III.

Section of 14 CFR Affected: 14 CFR 91.109(a).

Description of Relief Sought/Disposition: To permit Mr. Edward J. Tarver III to conduct certain flight training in certain Beechcraft Bonanza/Debonair/Baron airplanes that equipped with a functioning throwover control wheel, subject to certain conditions and limitations. Grant, 12/29/2004, Exemption No. 8465.

Docket No.: FAA-2001-10267.

Petitioner: Carver Aero, Inc.

Section of 14 CFR Affected: 14 CFR 135.421(a).

Description of Relief Sought/Disposition: To permit Carver Aero, Inc., to operate a Piper PA-23-250 aircraft under part 135 without having overhauled the engine at the interval recommended by the manufacturer, as required by regulation. Denial, 12/29/2004, Exemption No. 8463.

Docket No.: FAA-2000-8186.

Petitioner: Sound Flight, Inc.

Section of 14 CFR Affected: 14 CFR 135.203(a)(1).

Description of Relief Sought/Disposition: To permit Sound Flight, Inc., to conduct operations under visual flight rules at an altitude below 500 feet, over water, outside controlled airspace. Grant, 12/29/2004, Exemption No. 6428D.

Docket No.: FAA-2000-8009.

Petitioner: Alaska Airlines, Inc.

Section of 14 CFR Affected: 14 CFR 121.44(a) and SFAR 58, paragraph 6(b)(3)(ii)(A).

Description of Relief Sought/Disposition: To permit Alaska Airlines, Inc., to meet line check requirements using an alternative line check program. Grant, 12/29/2004, Exemption No. 6043F.

Docket No.: FAA-2001-8987.

Petitioner: The Boeing Company.

Section of 14 CFR Affected: 14 CFR 91.515(a)(1).

Description of Relief Sought/Disposition: To permit the Boeing Company to conduct noise measurement tests, Ground Proximity Warning System research and development, and aircraft certification tests at altitudes less than 1,000 feet above the surface or 1,000 feet from any mountain, hill, or other obstruction outside of daytime only conditions, subject to certain conditions and limitations. Grant, 12/29/2004, Exemption No. 4783I.

Docket No.: FAA-2000-7991.

Petitioner: ATA Airlines, Inc.

Section of 14 CFR Affected: 14 CFR 121.434(c)(1)(ii).

Description of Relief Sought/Disposition: To permit ATA Airlines, Inc., to observe a qualifying pilot in command who is completing initial or upgrade training specified in § 121.424 during at least one flight leg that includes a takeoff and a landing. Grant, 12/29/2004, Exemption No. 7491B.

[FR Doc. 05-795 Filed 1-13-05; 8:45 am]

BILLING CODE 4910-13-P